DEPARTMENT OF ENERGY

[Docket Number EERE-2011-BT-TP-0041]

RIN 1904-AC50

Energy Efficiency Program: Test Procedure for Lighting Systems (Luminaires)

AGENCY: Office of Energy Efficiency and Renewable Energy, Department of Energy.

ACTION: Request for Information.

SUMMARY: The U.S. Department of Energy (“DOE” or the “Department”) is currently evaluating energy efficiency test procedures for luminaires (also referred to herein as lighting systems) and collecting information for the labeling of such products. DOE recognizes that well-designed test procedures are important to produce reliable, repeatable, and consistent test results and that labeling assists informed consumer choice. The existing luminaire test procedures DOE is evaluating include those already established by the National Electrical Manufacturers Association (NEMA) and ENERGY STAR, which include by reference numerous test procedures established by the American National Standards Institute (ANSI), the Illuminating Engineering Society of North America (IESNA), the International Commission on Illumination (Commission Internationale de l'Eclairage (CIE)), and the Illuminating Engineering Society of North America (IESNA). To inform interested parties, facilitate its consideration of appropriate test procedures, and collect information on labeling, DOE seeks comment and requests information related to test procedures and labels for lighting systems based on industry-standard procedures and practices for luminaires. In particular, DOE is interested in if and how test procedures and labels may include controls for powering the luminaire on or off depending on time of day, daylight or occupancy sensor readings and other factors.

DATES: Written comments and information are requested by September 19, 2011.

ADDRESSES: Interested persons may submit comments in writing, identified by docket number EERE-2011-BT-TP-0041, by any of the following methods:

1. Federal eRulemaking Portal: http://www.regulations.gov. Follow the instructions for submitting comments.

2. E-mail: LightingSys-2011-TP-0041@ee.doe.gov. Include EERE-2011-BT-TP-0041 and/or RIN 1904-AC50 in the subject line of the message.

3. Mail: Ms. Brenda Edwards, U.S. Department of Energy, Building Technologies Program, Mailstop EE-2J, Request for Information for Lighting Systems, EERE-2011-BT-TP-0041 and/or RIN 1904-AC50, 1000 Independence Avenue, SW., Washington, DC 20585-0121. Phone: (202) 586-2945. Please submit one signed paper original.

4. Hand Delivery/Courier: Ms. Brenda Edwards, U.S. Department of Energy, Building Technologies Program, 6th Floor, 950 L'Enfant Plaza, SW., Washington, DC 20024. Phone: (202) 586-2945. Please submit one signed paper original.

5. Instructions: All submissions received must include the agency name and docket number.

Docket: For access to the docket to read background documents or comments received, visit the U.S. Department of Energy, Building Technologies Program, 950 L'Enfant Plaza, SW., Suite 600, Washington, DC, 20024, (202) 586-2945, between 9 a.m. and 4 p.m., Monday through Friday, except Federal holidays. Please call Ms. Brenda Edwards at the above telephone number for additional information.

The docket also is available for review at regulations.gov, including Federal Register notices, and other supporting documents/materials. All documents in the docket are listed in the regulations.gov index. However, not all documents listed in the index may be publicly available, such as information that is exempt from public disclosure.

A link to the docket web page can be found at: http://www.eere.energy.gov/buildings/appliance_standards/commercial/lighting_systems.html. This web page contains a link to the docket for this notice on the regulations.gov site. The regulations.gov web page contains instructions on how to access all documents, including public comments, in the docket.

FOR FURTHER INFORMATION CONTACT: Dr. Tina Kaarsberg, U.S. Department of Energy, Office of Energy Efficiency and Renewable Energy, Building Technologies Program, EE-2J, 1000 Independence Avenue, SW., Washington, DC 20585-0121. Telephone: (202) 287-1393. E-mail: Tina.Kaarsberg@ee.doe.gov.

In the Office of General Counsel, contact Ms. Elizabeth Kohl, U.S. Department of Energy, Office of the General Counsel, GC-71, 1000 Independence Avenue, SW., Washington, DC 20585. Telephone: (202) 586-7796. E-mail: Elizabeth.Kohl@hq.doe.gov.

SUPPLEMENTARY INFORMATION:

I. Statutory Authority

The Energy Policy Act of 1992 (EPAct 1992, Pub. L. 102-486), Section 126, required DOE to support and monitor a national voluntary testing and information program for widely used luminaires that have significant energy savings potential, and to issue a determination as to whether the program developed was consistent with those objectives. The program was required to include specifications for test procedures and labels that will enable purchasers of such luminaires to make more informed decisions about the energy efficiency and costs of alternative products. If DOE determines that a program of voluntary national testing and information for luminaires consistent with those objectives has not been developed, EPAct 1992 directs DOE to develop test procedures for luminaires. EPAct 1992 also provides for labels for these products. (42 U.S.C. 6292 note) The Energy Policy Act of 2005 (EPAct 2005, Pub. L. 109-58) and the Energy Independence and Security Act of 2007 established Federal efficiency standards for certain classes of luminaires—torchieres, ceiling fan light kits, exit signs, traffic signals, and metal halide lamp fixtures—but currently there are no DOE-approved test procedures for most widely-used classes of luminaires. There are also no labeling requirements for these products.

II. Background

In April 1992, the National Lighting Collaborative (NLC or Collaborative) initiated development of a testing and information program as described under EPAct 1992. The Collaborative, administered by NEMA, included representatives from environmental organizations, State governments, the lighting industry, research entities, and utilities.¹ In 1995, the NLC issued a report on the program to DOE that served as the basis of DOE's provisional determination on whether the program met the objectives set forth in EPAct 1992 (61 FR 10742, March 15, 1996). DOE found that the program would be consistent with the objectives set forth in EPAct 1992 when it had been demonstrated to DOE that the program had been “fully implemented so that energy efficiency information about luminaires is widely available to luminaire purchasers”. Although the NLC continued activities through 2001,² DOE has not yet issued a final determination regarding the program.³

¹ In 1999, membership included the following organizations: Environmental groups were represented by the Alliance to Save Energy, the American Council for an Energy-Efficient Economy, and the Natural Resources Defense Council. State and Federal government representatives included the California Energy Commission, the National Institute of Standards and Technology (NIST), the New York State Energy Research and Development Authority, DOE, and the US Environmental Protection Agency. Lighting and related industry organizations were represented by the American Lighting Association, the American Society of Heating, Refrigerating and Air-Conditioning Engineers, the Association of Energy Engineers, the Building Owners and Managers Association, the Illuminating Engineering Society of North America, the International Association of Lighting Designers, the National Association of Lighting Management Companies, the National Association of Electrical Distributors, the National Association of State Energy Officials, the National Electrical Contractors Association, and the National Electrical Manufacturers Association. Testing and research entities included the Lawrence Berkeley National Laboratory, the Lighting Research Center, and the Lighting Research Institute. Utilities were represented by the Edison Electric Institute and the Electric Power Research Institute.

² In 1999 the Collaborative issued a new Report on the Status of the Voluntary National Testing and Information Program for Luminaires, which described the program and urged DOE to approve it. The Program included luminaire test procedures for widely used fluorescent and HID luminaires, a complaint resolution process to resolve disputes about Luminaire Efficacy Rating (LER) values, and an information program. In addition, the Program recommended that testing be carried out by a laboratory accredited by NIST's National Voluntary Laboratory Accreditation Program.

³ NEMA's current Lighting Industry Director was unaware of any program activity in recent years. LBNL staff who participated on the NLC stated that the last meeting was in 2001. While conceptually related, NEMA's subsequent LE 6 activity was organizationally unrelated to the NLC. See http://www.nema.org/stds/le5.cfm (“When rating a fixture in accordance with EPAct 1992, use this standard. For other purposes, see NEMA LE 6, a newer standard for luminaire efficacy that supersedes the LE 5 series.”).

a. Evolution of National Luminaire Testing and Definitions

In response to the EPAct 1992 requirement that DOE provide financial and technical assistance to support a voluntary national testing and information program, NEMA developed, and the NLC incorporated into the program, three separate industry standards applicable to luminaires along with their associated test procedures:

○ LE 5—Procedure for Determining Luminaire Efficacy Ratings for Fluorescent Luminaires.

○ LE 5A—Procedure for Determining Luminaire Efficacy Ratings for Commercial, Non-Residential Downlight Luminaires.

○ LE 5B—Procedure for Determining Luminaire Efficacy Ratings for High-Intensity Discharge Industrial Luminaires.

The Environmental Protection Agency (EPA) created a voluntary specification for luminaires under its ENERGY STAR program. The ENERGY STAR specification (http://www.energystar.gov/index.cfm?c=new_specs.luminaires) includes a voluntary standard but does not generally include controls. The ENERGY STAR test procedures reference industry test procedures for fluorescent, high-intensity discharge and solid-state luminaires, none of which currently include controls.⁴

⁴ ENERGY STAR® Program Requirements Product Specification for Luminaires (Light Fixtures) Eligibility Criteria Version 1.0.

In 2008, NEMA introduced its Target Efficacy Rating (TER), documented in NEMA standard LE 6, and adds to the LE 5 series efficacy calculation a factor to address the fraction of light leaving the luminaire that is delivered to the intended target surface. LE 6 is intended to supersede the LE 5 series ratings for all purposes other than “rating a fixture in accordance with EPAct 1992”. The TER addresses major classes of commercial, residential, and industrial luminaires used for both indoor and outdoor lighting, but does not include controls.

b. Lighting System/Luminaire Controls

The EPAct 1992 requirements for luminaires discussed above pertained to the energy efficiency of entire lighting systems, as opposed to just lamps or lamp and ballast systems. The Illuminating Engineering Society of North America defines luminaire as a “complete lighting unit consisting of lamp(s) and ballast(s) (when applicable) together with the parts designed to distribute the light, position and protect the lamps, and to connect the lamp(s) to the power supply.”5 6 The Energy Policy and Conservation Act of 1975 (EPCA), as amended, adopts the same definition for luminaires with fluorescent light sources: “a complete lighting unit consisting of a fluorescent lamp or lamps, together with parts designed to distribute the light, to position and protect such lamps, and to connect such lamps to the power supply through the ballast. Controls are considered under these definitions as the part of the lighting system that connects the lamp(s) to the power supply.

⁵ Rea, M.S. (Editor), Illuminating Engineering Society of North America, IESNA Lighting Handbook, 9th Edition, 2000.

⁶ This ANSI/IESNA definition of luminaire has also been accepted by ENERGY STAR® and the California Energy Commission.

Although it has not yet included them in its own industry procedures, NEMA has argued generally that lighting standards should incorporate controls, not just source efficacies, because of their great potential for much larger savings in major applications. On May 10, 2011, NEMA submitted public comments on the current fluorescent ballast rulemaking noting that a “ballast that is switched off or dimmed uses much less energy and can result in increased user satisfaction” (Document ID: EERE-2007-BT-STD-0016-0039.1).⁷ On May 27, 2010, NEMA submitted public comments for the high-intensity discharge (HID) lamps determination arguing that “industry believes that the DOE will find much more energy savings from HID systems with the proper application of electronic ballasts and/or intelligent controls [versus] standards that increase average HID lamp efficiencies” (Document ID: EERE-2006-DET-0112-0021.1).⁸ In a May 15, 2008, public workshop for California's metal halide luminaires rulemaking, NEMA proposed using integral controls as an alternative compliance option to high efficiency ballasts and later worked with the Pacific Gas and Electric Company, the American Council for an Energy Efficient Economy, and the California Energy Commission to develop that option for the final rule.⁹

⁷ Available online: http://www.regulations.gov/#!documentDetail;D=EERE-2007-BT-STD-0016-0039.

⁸ Available online: http://www.regulations.gov/#!searchResults;rpp=10;po=0;s=DET-0112-0021.

⁹ California Energy Commission, 2008 Appliance Efficiency Rulemaking: Staff Report, Phase I, Part B, Docket #08-AEER-1B, Report #CEE-400-2008-023, page 7.

The American Council for an Energy Efficient Economy (ACEEE) also encouraged DOE to take a systems-based approach to lighting in its May 27, 2010 comments on the HID rulemaking: “In general, we would like to see DOE combine rulemakings—or at least analysis—whenever possible for individual lighting components that are operated together in a system. This would allow for greater efficiencies in the analytical effort, better consideration and coordination of the impacts of standards changes for one component on overall system performance, and potentially for more effective final standards from an energy savings, economic, and environmental perspective.”

C. Evaluation of Luminaire/Lighting Systems Test Procedures

DOE is evaluating whether test procedures for luminaires/lighting systems may be based on existing industry rating systems and test procedures such as NEMA's LE 6 rating system, (which covers 22 classes of interior and exterior luminaires) and EPA's ENERGY STAR luminaire specifications (which covers a range of residential and commercial direction and non-directional products) and is based on IESNA test procedures (LM-46, LM-41, LM-10-11, and LM-31-11). DOE is considering whether to define certain lighting systems and controls terminology to enable development of an appropriate national test procedure.

D. Collection of Information on Luminaire/Lighting Systems Labeling.

DOE is also collecting information on whether labels for luminaires/lighting systems may be based on industry rating systems such as those described in the previous section.

E. Conclusion

The Department recognizes that voluntary luminaire test procedures and labels exist and that the industry is increasingly using controls technologies to reduce lighting energy use. DOE therefore requests information on recent developments in luminaire testing and labeling programs and how energy savings from controls are addressed therein.

III. Public Participation

A. Submission of Information

DOE will accept information and data in response to this Request for Information as provided in the DATES section above. Information submitted to the Department by e-mail should be provided in WordPerfect, Microsoft Word, PDF, or text file format. Those responding should avoid the use of special characters or any form of encryption, and wherever possible, comments should include the electronic signature of the author. Comments submitted to the Department by mail or hand delivery/courier should include one signed original paper copy. No telefacsimiles will be accepted. Comments submitted in response to this notice will become a matter of public record and will be made publicly available.

B. Issues on Which DOE Seeks Information

Although comments are welcome on all issues discussed in this notice, DOE is particularly interested in the following information and substantiating data on existing test procedures and labels for luminaires.

1. Definitions. DOE invites comments on the definition of lighting systems, luminaires and other relevant terms.

2. Lighting systems/luminaire test procedures and labeling. DOE is particularly interested in details on industry, state, and international test procedures and labels including, where feasible: Luminaire classes covered, fraction of current luminaire sales covered, percentage of products covered by the program currently being tested and reported on; the method used to inform purchasers of covered luminaires about the results of the testing and other energy and performance related information.

3. Inclusion of controls in lighting systems test procedures and labeling. DOE requests comments on means to include controls in test procedures and whether the inclusion of controls in labels would provide consumers with useful information.

4. The current status of labeling programs. DOE is particularly interested in what products are currently sold with luminaire efficiency labels, what fraction of the market represents, what the leading labels are and what information the labels contain.

DOE is also interested in comments on other relevant issues that participants think would affect test procedures and labeling applicable to lighting systems or luminaires.

Issued in Washington, DC, on July 29, 2011.
Kathleen Hogan,
Deputy Assistant Secretary for Energy Efficiency, Office of Technology Development, Energy Efficiency and Renewable Energy.

[FR Doc. 2011-19780 Filed 8-3-11; 8:45 am]

BILLING CODE 6450-01-P